DEPARTMENT OF COMMERCE

National Oceanic and Atmospheric Administration

[I.D. 090105B]

Fisheries of the Northeastern United States; Essential Fish Habitat Components of Certain Fishery Management Plans 5-year Review; Supplemental Scoping Process

AGENCY: National Marine Fisheries Service (NMFS), National Oceanic and Atmospheric Administration (NOAA), Commerce.

ACTION: Supplemental Notice of Intent (NOI) to prepare a Programmatic Environmental Impact Statement (EIS); notice of supplemental scoping process; request for comments.

SUMMARY: On February 24, 2004, the New England Fishery Management Council (Council) in cooperation with NMFS announced its intent to prepare a programmatic EIS and Omnibus Amendment 2 to the Fishery Management Plans (FMPs) for Northeast Multispecies, Atlantic Sea Scallop, Monkfish, Atlantic Herring, Skates, Atlantic Salmon, and Red Crab. The purpose of this notification is to alert the interested public of the Council's intent to complete Omnibus Amendment 2 in a two-phased approach. Phase 1 (Volume 1 of the EIS) would include a review and update of Essential Fish Habitat (EFH) designations and consideration of Habitat Areas of Particular Concern (HAPCs) (not including consideration of management measures or restrictions), an update of the prey species list, an update of non-fishing impacts, and an update of research and information needs. Phase 2 (Volume 2 of the EIS) would include reviewing and updating a gear effects evaluation and optimizing management measures for minimizing the adverse effects of fishing on EFH across all FMPs, including the potential consideration of management measures for HAPCs designated in Phase 1. During this scoping period, the Council and NMFS are seeking comments on the phased approach only.

DATES: Written scoping comments must be received on or before 5 pm EST, October 11, 2005.

ADDRESSES: Comments may be submitted by any of the following methods:

• E-mail: comments@nefmc.org

• Mail, Disk, or CD-Rom: Paul J. Howard, Executive Director, New England Fishery Management Council, 50 Water Street, Newburyport, MA 01950

• Fax: (978) 465-3116

FOR FURTHER INFORMATION CONTACT: Paul J. Howard, New England Council, (978) 465-0492; Lou Chiarella, NMFS, (978) 281-9277.

SUPPLEMENTARY INFORMATION: Issues scoped under the NOI published February 24, 2004 (69 FR 8367) included: (1) the review and update of the description and identification of EFH; (2) the review and development of analytical tools used to analyze alternatives to minimize adverse effects of fishing on EFH; (3) the review and update of non-Magnuson-Stevens Fishery Conservation and Management Act (Magnuson-Stevens Act) fishery council management actions and fishing activities that may adversely affect EFH; (4) the review and update of non-fishing related activities that may adversely affect EFH; (5) the review and update of the cumulative impact analysis; (6) the review and update of conservation and enhancement recommendations; (7) the review and update of prey species information; the identification of new HAPCs; (8) the review and update of research and information needs including the consideration of Dedicated Habitat Research Areas (DHRA); and (9) the integration of alternatives to minimize any adverse effects of fishing on EFH across all FMPs principally managed by the Council by developing a comprehensive EFH Management Plan. A complete description of the background and need for the Omnibus Amendment and a list of scoping hearings can be found in the original February 24, 2004, NOI and are not repeated here.

Due largely to public clarity and issues of complexity, the Council intends to complete the EFH Omnibus Amendment 2 action in two phases or volumes with one accompanying EIS and Magnuson-Stevens Act document. Separation of this large action into two phases (volumes) will allow for the continued sequential development of the Omnibus Amendment but avoids the creation of an extremely large and complex action that may not be decipherable from the public's perspective. Further, in order to meet the Sustainable Fisheries Act intention of the EFH mandate, it is prudent to take a step-wise approach. For instance, it is necessary to determine what is EFH prior to conducting an evaluation of the potential effects of fishing gear on EFH and to develop a range of alternatives to minimize, mitigate or avoid any impacts that are more than minimal and less than temporary in nature. As such, the Council would complete the Omnibus Amendment 2 in two phases. Phase 1 (Volume 1 of the EIS) would include a review and update of EFH designations and consideration of HAPCs (not including consideration of management measures or restrictions), an update of prey species list, an update of non-fishing impacts, and an update of research and information needs. Phase 2 (Volume 2 of the EIS) would include reviewing and updating a gear effects evaluation and optimizing management measures for minimizing the adverse effects of fishing on EFH across all FMPs, including the potential consideration of management measures for HAPCs designated in Phase 1. The proposed sequence of events is described in Table 1.

Table 1. Events or Milestones of Phased Approach.
Step | Event/Milestone
1 | Council files modified Notice of Intent to clearly explain to the public the new course of action.
2 | Council considers topics outlined in Phase 1 and develops a range of alternatives.
3 | Council prepares Draft Volume 1 of preliminary EIS to include components in Step 2.
4 | Public Hearings/Public Comment Period on Volume 1.
5 | Council considers public comments and makes final decisions on Phase 1 topics.
6 | Council completes Final Volume 1 containing analysis of Phase 1 topics.
7 | Council considers topics outlined in Phase 2 and develops a range of alternatives.
8 | Council prepares Draft Volume 2 of EIS to include components in Step 7.
9 | Public Hearings / Public Comment Period on combined Volume 1 and Volume 2.
10 | Council considers public comments and makes final decisions on Phase 2 topics.
11 | Council completes Final Volume 2 containing analysis of Phase 2 topics.
12 | Council prepares and submits merged Volume 1 and Volume 2 to NMFS as complete EIS/Magnuson-Stevens Act FMP Amendment documents.
13 | NMFS reviews EIS and issues a record of decision.

Authority: 16 U.S.C. 1801 et seq.

Dated: September 2, 2005.
Emily Menashes
Acting Director, Office of Sustainable Fisheries, National Marine Fisheries Service.

[FR Doc. 05-17943 Filed 9-8-05; 8:45 am]

BILLING CODE 3510-22-S